DEPARTMENT OF ENERGY

Federal Energy Regulatory Commission

Combined Notice of Filings #1

Take notice that the Commission received the following exempt wholesale generator filings:

Docket Numbers: EG20-35-000.

Applicants: AES Kekaha Solar, LLC.

Description: Notice of Self-Certification of Exempt Wholesale Generator Status of AES Kekaha Solar, LLC.

Filed Date: 11/20/19.

Accession Number: 20191120-5120.

Comments Due: 5 p.m. ET 12/11/19.

Docket Numbers: EG20-36-000.

Applicants: Coachella Wind Holdings, LLC.

Description: Notice of Self-Certification of Exempt Wholesale Generator Status of Coachella Wind Holdings, LLC.

Filed Date: 11/21/19.

Accession Number: 20191121-5093.

Comments Due: 5 p.m. ET 12/12/19.

Docket Numbers: EG20-37-000.

Applicants: Desert Hot Springs, LLC.

Description: Notice of Self-Certification of Exempt Wholesale Generator Status of Desert Hot Springs, LLC.

Filed Date: 11/21/19.

Accession Number: 20191121-5095.

Comments Due: 5 p.m. ET 12/12/19.

Docket Numbers: EG20-38-000.

Applicants: Mojave 16/17/18 LLC.

Description: Notice of Self-Certification of Exempt Wholesale Generator Status of Mojave 16/17/18 LLC.

Filed Date: 11/21/19.

Accession Number: 20191121-5098.

Comments Due: 5 p.m. ET 12/12/19.

Docket Numbers: EG20-39-000.

Applicants: Oasis Alta, LLC.

Description: Notice of Self-Certification of Exempt Wholesale Generator Status of Oasis Alta, LLC.

Filed Date: 11/21/19.

Accession Number: 20191121-5102.

Comments Due: 5 p.m. ET 12/12/19.

Docket Numbers: EG20-40-000.

Applicants: Mojave 3/4/5 LLC.

Description: Notice of Self-Certification of Exempt Wholesale Generator Status of Mojave 3/4/5 LLC.

Filed Date: 11/21/19.

Accession Number: 20191121-5104.

Comments Due: 5 p.m. ET 12/12/19.

Docket Numbers: EG20-41-000.

Applicants: Painted Hills Wind Holdings, LLC.

Description: Notice of Self-Certification of Exempt Wholesale Generator Status of Painted Hills Wind Holdings, LLC.

Filed Date: 11/21/19.

Accession Number: 20191121-5107.

Comments Due: 5 p.m. ET 12/12/19.

Docket Numbers: EG20-42-000.

Applicants: Refresh Wind 2, LLC.

Description: Notice of Self-Certification of Exempt Wholesale Generator Status of Refresh Wind 2, LLC.

Filed Date: 11/21/19.

Accession Number: 20191121-5110.

Comments Due: 5 p.m. ET 12/12/19.

Docket Numbers: EG20-43-000.

Applicants: Refresh Wind, LLC.

Description: Notice of Self-Certification of Exempt Wholesale Generator Status of Refresh Wind, LLC.

Filed Date: 11/21/19.

Accession Number: 20191121-5113.

Comments Due: 5 p.m. ET 12/12/19.

Docket Numbers: EG20-44-000.

Applicants: San Jacinto Wind II, LLC.

Description: Notice of Self-Certification of Exempt Wholesale Generator Status of San Jacinto Wind II, LLC.

Filed Date: 11/21/19.

Accession Number: 20191121-5117.

Comments Due: 5 p.m. ET 12/12/19.

Docket Numbers: EG20-45-000.

Applicants: Terra-Gen 251 Wind, LLC.

Description: Notice of Self-Certification of Exempt Wholesale Generator Status of Terra-Gen 251 Wind, LLC.

Filed Date: 11/21/19.

Accession Number: 20191121-5122.

Comments Due: 5 p.m. ET 12/12/19.

Take notice that the Commission received the following electric rate filings:

Docket Numbers: ER10-1852-031; ER10-1951-016; ER11-4462-037; ER16-1277-007; ER16-1293-006; ER16-1354-006; ER17-838-012; ER18-1952-006.

Applicants: Florida Power & Light Company, Gulf Power Company, Live Oak Solar, LLC, NEPM II, LLC, NextEra Energy Services Massachusetts, LLC, NextEra Energy Marketing, LLC, White Oak Solar, LLC, White Pine Solar, LLC.

Description: Notification of Non-material Change in Status of the NextEra Resource Entities.

Filed Date: 11/19/19.

Accession Number: 20191119-5169.

Comments Due: 5 p.m. ET 12/10/19.

Docket Numbers: ER12-672-013.

Applicants: Brea Power II, LLC.

Description: Notice of Non-Material Change in Status of Brea Power II, LLC.

Filed Date: 11/19/19.

Accession Number: 20191119-5174.

Comments Due: 5 p.m. ET 12/10/19.

Docket Numbers: ER19-2582-000.

Applicants: Pacific Gas and Electric Company.

Description: Response of Pacific Gas and Electric Company to October 4, 2019 letter requesting additional information; and also an Errata to Response of Pacific Gas and Electric Company to October 4, 2019 letter requesting additional information.

Filed Date: 11/19/19.

Accession Number: 20191119-5020, 20191119-5142.

Comments Due: 5 p.m. ET 12/10/19.

Docket Numbers: ER19-2893-001.

Applicants: El Paso Electric Company.

Description: Tariff Amendment: Rate Schedule No. 18 EPE Power Sales Agreement with RGEC to be effective 8/1/2017.

Filed Date: 11/20/19.

Accession Number: 20191120-5137.

Comments Due: 5 p.m. ET 12/11/19.

Docket Numbers: ER20-195-000.

Applicants: Diamond Leaf Energy, LLC.

Description: Supplement to October 25 2019 Diamond Leaf Energy, LLC tariff filing.

Filed Date: 11/8/19.

Accession Number: 20191108-5105.

Comments Due: 5 p.m. ET 12/2/19.

Docket Numbers: ER20-419-001.

Applicants: ITC Midwest LLC.

Description: Tariff Amendment: Amendment to Filing of a CIAC Agreement with Northern States to be effective 1/19/2020.

Filed Date: 11/20/19.

Accession Number: 20191120-5111.

Comments Due: 5 p.m. ET 12/11/19.

Docket Numbers: ER20-427-000.

Applicants: Southwest Power Pool, Inc.

Description: § 205(d) Rate Filing: Revisions to Clarify Transmission Invoicing to be effective 1/19/2020.

Filed Date: 11/20/19.

Accession Number: 20191120-5112.

Comments Due: 5 p.m. ET 12/11/19.

Docket Numbers: ER20-428-000.

Applicants: Pacific Gas and Electric Company.

Description: § 205(d) Rate Filing: November 2019 Western IA Biannual Filing (SA 59) to be effective 2/1/2020.

Filed Date: 11/20/19.

Accession Number: 20191120-5126.

Comments Due: 5 p.m. ET 12/11/19.

Docket Numbers: ER20-429-000.

Applicants: Pacific Gas and Electric Company.

Description: § 205(d) Rate Filing: November 2019 Western WDT Service Agreement Biannual Filing (SA 17) to be effective 2/1/2020.

Filed Date: 11/20/19.

Accession Number: 20191120-5128.

Comments Due: 5 p.m. ET 12/11/19.

Docket Numbers: ER20-430-000.

Applicants: Southwest Power Pool, Inc.

Description: § 205(d) Rate Filing: 2829R4 Midwest Energy/Evergy Kansas Central Meter Agent Agr to be effective 11/1/2019.

Filed Date: 11/20/19.

Accession Number: 20191120-5136.

Comments Due: 5 p.m. ET 12/11/19.

Docket Numbers: ER20-431-000.

Applicants: Ohio Power Company, AEP Ohio Transmission Company, Inc., PJM Interconnection, L.L.C.

Description: § 205(d) Rate Filing: AEP submits ILDSA, SA No. 1336 and 3 Facilities Agreements to be effective 1/21/2020.

Filed Date: 11/21/19.

Accession Number: 20191121-5004.

Comments Due: 5 p.m. ET 12/12/19.

Docket Numbers: ER20-432-000.

Applicants: The Empire District Electric Company.

Description: Application for Waiver of Affiliate Rules of The Empire District Electric Company.

Filed Date: 11/20/19.

Accession Number: 20191120-5143.

Comments Due: 5 p.m. ET 12/11/19.

Docket Numbers: ER20-433-000.

Applicants: Tampa Electric Company.

Description: Tariff Cancellation: Cancellation of Rate Schedule FERC No. 100—Plant City IA to be effective 12/18/2019.

Filed Date: 11/21/19.

Accession Number: 20191121-5021.

Comments Due: 5 p.m. ET 12/12/19.

Docket Numbers: ER20-434-000.

Applicants: Southwest Power Pool, Inc.

Description: § 205(d) Rate Filing: 3101R4 Heartland Consumers Power District NITSA and NOA to be effective 11/1/2019.

Filed Date: 11/21/19.

Accession Number: 20191121-5026.

Comments Due: 5 p.m. ET 12/12/19.

Docket Numbers: ER20-435-000.

Applicants: Southwest Power Pool, Inc.

Description: § 205(d) Rate Filing: 3114R4 Resale Power Group of Iowa to be effective 11/1/2019.

Filed Date: 11/21/19.

Accession Number: 20191121-5034.

Comments Due: 5 p.m. ET 12/12/19.

Docket Numbers: ER20-436-000.

Applicants: Southwest Power Pool, Inc.

Description: § 205(d) Rate Filing: 3473R1 Upstream Wind/Evergy Kansas Central Meter Agent Agr to be effective 11/1/2019.

Filed Date: 11/21/19.

Accession Number: 20191121-5038.

Comments Due: 5 p.m. ET 12/12/19.

Docket Numbers: ER20-437-000.

Applicants: Southwest Power Pool, Inc.

Description: § 205(d) Rate Filing: 3280R1 Marshall Wind/Evergy Kansas Central Meter Agent Agr to be effective 11/1/2019.

Filed Date: 11/21/19.

Accession Number: 20191121-5061.

Comments Due: 5 p.m. ET 12/12/19.

Docket Numbers: ER20-438-000.

Applicants: Southwest Power Pool, Inc.

Description: § 205(d) Rate Filing: 2825R6 KMEA and Evergy Kansas Central Meter Agent Agreement to be effective 11/1/2019.

Filed Date: 11/21/19.

Accession Number: 20191121-5126.

Comments Due: 5 p.m. ET 12/12/19.

Docket Numbers: ER20-439-000.

Applicants: Southwest Power Pool, Inc.

Description: § 205(d) Rate Filing: 2817R1 Flat Ridge 2 Wind Energy/Evergy Kansas Meter Agent Ag to be effective 11/1/2019.

Filed Date: 11/21/19.

Accession Number: 20191121-5135.

Comments Due: 5 p.m. ET 12/12/19.

Docket Numbers: ER20-440-000.

Applicants: Midcontinent Independent System Operator, Inc.

Description: § 205(d) Rate Filing: 2019-11-21_SA 3373 Entergy Arkansas-Newport Solar GIA (J919) to be effective 11/6/2019.

Filed Date: 11/21/19.

Accession Number: 20191121-5148.

Comments Due: 5 p.m. ET 12/12/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 21, 2019.
Nathaniel J. Davis, Sr.,
Deputy Secretary.

[FR Doc. 2019-25723 Filed 11-26-19; 8:45 am]

BILLING CODE 6717-01-P